DEPARTMENT OF ENERGY

Federal Energy Regulatory Commission

Combined Notice of Filings #1

Take notice that the Commission received the following exempt wholesale generator filings:

Docket Numbers: EG16-155-000.

Applicants: FL Solar 1, LLC.

Description: FL Solar 1, LLC. submits Notice of Self-Certification of Exempt Wholesale Generator Status.

Filed Date: 9/21/16.

Accession Number: 20160921-5127.

Comments Due: 5 p.m. ET 10/12/16.

Docket Numbers: EG16-156-000.

Applicants: AL Solar A, LLC.

Description: AL Solar A, LLC submits Notice of Self-Certification of Exempt Wholesale Generator Status.

Filed Date: 9/21/16.

Accession Number: 20160921-5128.

Comments Due: 5 p.m. ET 10/12/16.

Take notice that the Commission received the following electric rate filings:

Docket Numbers: ER16-2562-001.

Applicants: Nicolis, LLC.

Description: Tariff Amendment: Amendment to Co Tenancy Agreement to be effective 9/6/2016.

Filed Date: 9/21/16.

Accession Number: 20160921-5053.

Comments Due: 5 p.m. ET 10/12/16.

Docket Numbers: ER16-2563-001.

Applicants: Nicolis, LLC.

Description: Tariff Amendment: Amendment to Shared Use Agreement to be effective 9/6/2016.

Filed Date: 9/21/16.

Accession Number: 20160921-5052.

Comments Due: 5 p.m. ET 10/12/16.

Docket Numbers: ER16-2564-001.

Applicants: Tropico, LLC.

Description: Tariff Amendment: Amendment to Shared Use Agreement to be effective 9/6/2016.

Filed Date: 9/21/16.

Accession Number: 20160921-5055.

Comments Due: 5 p.m. ET 10/12/16.

Docket Numbers: ER16-2565-001.

Applicants: Tropico, LLC.

Description: Tariff Amendment: Amendment to Co Tenancy Agreement to be effective 9/6/2016.

Filed Date: 9/21/16.

Accession Number: 20160921-5058.

Comments Due: 5 p.m. ET 10/12/16.

Docket Numbers: ER16-2631-000.

Applicants: Sierra Pacific Power Company.

Description: § 205(d) Rate Filing: Rate Schedule No. 27—Annual BPA-GTA Update 2016 to be effective 10/31/2016.

Filed Date: 9/20/16.

Accession Number: 20160920-5139.

Comments Due: 5 p.m. ET 10/11/16.

Docket Numbers: ER16-2632-000.

Applicants: Trans Bay Cable LLC.

Description: § 205(d) Rate Filing: Revisions to Appendix I of TO Tariff to be effective 11/23/2016.

Filed Date: 9/20/16.

Accession Number: 20160920-5140.

Comments Due: 5 p.m. ET 10/11/16.

Docket Numbers: ER16-2633-000.

Applicants: Westar Energy, Inc.

Description: Tariff Cancellation: Notice of Cancellation of certain designated Rate Schedules to be effective 1/1/2014.

Filed Date: 9/21/16.

Accession Number: 20160921-5000.

Comments Due: 5 p.m. ET 10/12/16.

Docket Numbers: ER16-2634-000.

Applicants: Southwest Power Pool, Inc.

Description: § 205(d) Rate Filing: 3247 AEM Wind/SPS Facilities Construction Agreement to be effective 9/12/2016.

Filed Date: 9/21/16.

Accession Number: 20160921-5025.

Comments Due: 5 p.m. ET 10/12/16.

Docket Numbers: ER16-2635-000.

Applicants: Entergy Louisiana, LLC.

Description: Request for Waiver of Entergy Louisiana, LLC.

Filed Date: 9/20/16.

Accession Number: 20160920-5161.

Comments Due: 5 p.m. ET 10/11/16.

Docket Numbers: ER16-2636-000.

Applicants: Inland Empire Energy Center, LLC.

Description: § 205(d) Rate Filing: Request for Category 1 Seller Status to be effective 9/22/2016.

Filed Date: 9/21/16.

Accession Number: 20160921-5051.

Comments Due: 5 p.m. ET 10/12/16.

Docket Numbers: ER16-2637-000.

Applicants: Public Service Company of New Mexico.

Description: § 205(d) Rate Filing: Modifications to NITSA/NOA between PNM and Tri-State to be effective 9/1/2016.

Filed Date: 9/21/16.

Accession Number: 20160921-5086.

Comments Due: 5 p.m. ET 10/12/16.

Docket Numbers: ER16-2638-000.

Applicants: PJM Interconnection, L.L.C.

Description: § 205(d) Rate Filing: Original Service Agreement No. 4540, Queue Position NQ132 to be effective 8/22/2016.

Filed Date: 9/21/16.

Accession Number: 20160921-5136.

Comments Due: 5 p.m. ET 10/12/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 21, 2016.
Nathaniel J. Davis, Sr.,
Deputy Secretary.

[FR Doc. 2016-23445 Filed 9-27-16; 8:45 am]

BILLING CODE 6717-01-P